NATIONAL AERONAUTICS AND SPACE ADMINISTRATION

[Notice 05-055]

NASA Nuclear Systems Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Nuclear Systems Strategic Roadmap Committee.

DATES: Tuesday, April 5, 2005, 8 a.m. to 6 p.m.; Wednesday, April 6, 2005, 8 a.m. to 6 p.m., eastern standard time.

ADDRESSES: Hilton, Washington Dulles Airport, 13869 Park Center Rd., Herndon, VA 20171.

FOR FURTHER INFORMATION CONTACT: Ms. Victoria Friedensen, Exploration Systems Mission Directorate, National Aeronautics and Space Administration, Washington, DC 20546, (202) 358-1916.

SUPPLEMENTARY INFORMATION: The meeting will be open to the public up to the seating capacity of the meeting room. Attendees will be requested to sign a register. The agenda for the meeting includes the following topics:

—Review of previous meeting.

—Interim reports from other NASA Strategic Roadmap efforts.

—Risk Management and Communication.

—Lessons learned from previous space nuclear systems experience.

—International participation.

—Review and deliberation of first draft report.

It is imperative that the meeting be held on this date to accommodate the scheduling priorities of the key participants.

Dated: March 14, 2005.
P. Diane Rausch,
Advisory Committee Management Officer, National Aeronautics and Space Administration.

[FR Doc. 05-5394 Filed 3-17-05; 8:45 am]

BILLING CODE 7510-13-P